Executive Order 14316 of July 7, 2025

Extending the Modification of the Reciprocal Tariff Rates

By the authority vested in me as President by the Constitution and the laws of the United States of America, including the International Emergency Economic Powers Act (50 U.S.C. 1701 et seq.) (IEEPA), the National Emergencies Act (50 U.S.C. 1601 et seq.), section 604 of the Trade Act of 1974, as amended (19 U.S.C. 2483), and section 301 of title 3, United States Code, I hereby determine and order:

Section 1. Background. In Executive Order 14257 of April 2, 2025 (Regulating Imports With a Reciprocal Tariff To Rectify Trade Practices That Contribute to Large and Persistent Annual United States Goods Trade Deficits), I found that conditions reflected in large and persistent annual U.S. goods trade deficits constitute an unusual and extraordinary threat to the national security and economy of the United States that has its source in whole or substantial part outside the United States. I declared a national emergency with respect to that threat, and to deal with that threat I imposed additional ad valorem duties that I deemed necessary and appropriate.

Section 4(c) of Executive Order 14257 provides that, “[s]hould any trading partner take significant steps to remedy non-reciprocal trade arrangements and align sufficiently with the United States on economic and national security matters, I may further modify the [Harmonized Tariff Schedule of the United States] to decrease or limit in scope the duties imposed under this order.”

In Executive Order 14266 of April 9, 2025 (Modifying Reciprocal Tariff Rates To Reflect Trading Partner Retaliation and Alignment), I determined that it was necessary and appropriate to temporarily suspend, for a period of 90 days, application of the additional ad valorem rate of duties for products of the foreign trading partners listed in Annex I to Executive Order 14257, except with respect to the People's Republic of China (PRC), and to instead impose on articles of all such trading partners an additional ad valorem rate of duty of 10 percent, subject to the terms of Executive Order 14257, as amended. I made this determination in light of the “sincere intentions” and willingness of these trading partners to address the national and economic security concerns of the United States. This 90-day suspension expires at 12:01 a.m. eastern daylight time on July 9, 2025.

I have determined, based on additional information and recommendations from various senior officials, including information on the status of discussions with trading partners, that it is necessary and appropriate to extend the suspension effectuated by Executive Order 14266 until 12:01 a.m. eastern daylight time on August 1, 2025. With respect to the PRC, the separate tariff suspension effectuated by Executive Order 14298 of May 12, 2025 (Modifying Reciprocal Tariff Rates To Reflect Discussions With the People's Republic of China), remains in effect and is unaltered by this order.

Sec. 2. Tariff Modifications. The Harmonized Tariff Schedule of the United States (HTSUS) shall be modified, effective with respect to goods entered for consumption, or withdrawn from warehouse for consumption, on or after 12:01 a.m. eastern daylight time on July 9, 2025, by suspending headings 9903.01.43 through 9903.01.62 and 9903.01.64 through 9903.01.76, and subdivisions (v)(xiii)(1)-(9) and (11)-(57) of U.S. note 2 to subchapter III of chapter 99 of the HTSUS, until 12:01 a.m. eastern daylight time on August 1, 2025.

Sec. 3. Implementation. The Secretary of Commerce, the Secretary of Homeland Security, and the United States Trade Representative, as applicable, in consultation with the Secretary of State, the Secretary of the Treasury, the Assistant to the President for Economic Policy, the Senior Counselor for Trade and Manufacturing, the Assistant to the President for National Security Affairs, and the Chair of the International Trade Commission, are directed and authorized to take all necessary actions to implement and effectuate this order, consistent with applicable law, including through temporary suspension or amendment of regulations or notices in the Federal Register and by adopting rules, regulations, or guidance, and to employ all powers granted to the President by IEEPA, as may be necessary to implement this order. Each executive department and agency shall take all appropriate measures within its authority to implement this order.

Sec. 4. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Office of the United States Trade Representative.

THE WHITE HOUSE,

July 7, 2025.

[FR Doc. 2025-12962

Filed 7-9-25; 11:15 am]

Billing code 3290-F8-P